ENVIRONMENTAL PROTECTION AGENCY

40 CFR Part 82

[FRL-6575-7]

Protection of Stratospheric Ozone

AGENCY: Environmental Protection Agency.

ACTION: Notice of acceptability.

SUMMARY: This notice expands the list of acceptable substitutes for ozone-depleting substances (ODS) under the Environmental Protection Agency's (EPA) Significant New Alternatives Policy (SNAP) program.

EFFECTIVE DATE: April 11, 2000.

ADDRESSES: Information relevant to this notice is contained in Air Docket A-91-42, Central Docket Section, South Conference Room 4, Environmental Protection Agency, 401 M Street, SW., Washington, DC 20460, telephone: (202) 260-7548. The docket may be inspected between 8:00 a.m. and 5:30 p.m. weekdays. As provided in 40 CFR Part 2, a reasonable fee may be charged for photocopying.

FOR FURTHER INFORMATION CONTACT: Kelly Davis at (202) 564-2303 or fax (202) 565-2096, Environmental Protection Agency, Stratospheric Protection Division, Mail Code 6205J, Washington, DC 20460. Overnight or courier deliveries should be sent to the office location at 501 3rd Street, NW., Washington, DC 20001. The Stratospheric Protection Hotline can be reached at (800) 296-1996. Further information can be found at EPA's Ozone Depletion World Wide Web site at “http://www.epa.gov/ozone/title6/snap/”.

SUPPLEMENTARY INFORMATION:

I. Section 612 Program

A. Statutory Requirements

B. Regulatory History

II. Listing of Acceptable Substitutes

A. Refrigeration and Air Conditioning

B. Foam Blowing

III. Additional Information

Appendix A—Summary of Acceptable Decisions

I. Section 612 Program

A. Statutory Requirements

Section 612 of the Clean Air Act authorizes EPA to develop a program for evaluating alternatives to ozone-depleting substances. EPA refers to this program as the Significant New Alternatives Policy (SNAP) program. The major provisions of section 612 are:

• Rulemaking—Section 612(c) requires EPA to promulgate rules making it unlawful to replace any class I (chlorofluorocarbon, halon, carbon tetrachloride, methyl chloroform, methyl bromide, and hydrobromofluorocarbon) or class II (hydrochlorofluorocarbon) substance with any substitute that the Administrator determines may present adverse effects to human health or the environment where the Administrator has identified an alternative that (1) reduces the overall risk to human health and the environment, and (2) is currently or potentially available.

• Listing of Unacceptable/Acceptable Substitutes—Section 612(c) also requires EPA to publish a list of the substitutes unacceptable for specific uses. EPA must publish a corresponding list of acceptable alternatives for specific uses.

• Petition Process—Section 612(d) grants the right to any person to petition EPA to add a substance to or delete a substance from the lists published in accordance with section 612(c). The Agency has 90 days to grant or deny a petition. Where the Agency grants the petition, EPA must publish the revised lists within an additional 6 months.

• 90-Day Notification—Section 612(e) requires EPA to require any person who produces a chemical substitute for a class I substance to notify the Agency not less than 90 days before new or existing chemicals are introduced into interstate commerce for significant new uses as substitutes for a class I substance. The producer must also provide the Agency with the producer's unpublished health and safety studies on such substitutes.

• Outreach—Section 612(b)(1) states that the Administrator shall seek to maximize the use of federal research facilities and resources to assist users of class I and II substances in identifying and developing alternatives to the use of such substances in key commercial applications.

• Clearinghouse—Section 612(b)(4) requires the Agency to set up a public clearinghouse of alternative chemicals, product substitutes, and alternative manufacturing processes that are available for products and manufacturing processes which use class I and II substances.

B. Regulatory History

On March 18, 1994, EPA published rulemaking (59 FR 13044) which described the process for administering the SNAP program and issued EPA's first acceptability lists for substitutes in the major industrial use sectors. These sectors include: refrigeration and air conditioning; foam blowing; solvents cleaning; fire suppression and explosion protection; sterilants; aerosols; adhesives, coatings and inks; and tobacco expansion. These sectors compose the principal industrial sectors that historically consumed the largest volumes of ozone-depleting compounds.

As described in this original rule for the SNAP program, EPA does not believe that rulemaking procedures are required to list alternatives as acceptable with no limitations. Such listings do not impose any sanction, nor do they remove any prior license to use a substance. Consequently, by this notice EPA is adding substances to the list of acceptable alternatives without first requesting comment on new listings.

EPA does, however, believe that notice-and-comment rulemaking is required to place any substance on the list of prohibited substitutes, to list a substance as acceptable only under certain conditions, to list substances as acceptable only for certain uses, or to remove a substance from either the list of prohibited or acceptable substitutes. Updates to these lists are published as separate notices of rulemaking in the Federal Register.

The Agency defines a “substitute” as any chemical, product substitute, or alternative manufacturing process, whether existing or new, intended for use as a replacement for a class I or class II substance. Anyone who produces a substitute must provide the Agency with health and safety studies on the substitute at least 90 days before introducing it into interstate commerce for significant new use as an alternative. This requirement applies to substitute manufacturers, but may include importers, formulators or end-users, when they are responsible for introducing a substitute into commerce.

A complete chronology of SNAP decisions and the appropriate Federal Register citations can be found at EPA's Ozone Depletion World Wide Web site at http://www.epa.gov/ozone/title6/snap/chron.html. This information is also available from the Air Docket (see ADDRESSES section above for contact information).

II. Listing of Acceptable Substitutes

This section presents EPA's most recent acceptable listing decisions for substitutes in the refrigeration and foams sectors. For copies of the full list of SNAP decisions in all industrial sectors, contact the EPA Stratospheric Protection Hotline at (800) 296-1996.

The sections below presents a detailed discussion of the substitute listing. The table summarizing today's listing decisions is in Appendix A. The comments contained in the table in Appendix A provide additional information, but are not legally binding under section 612 of the Clean Air Act. Thus, adherence to recommendations in the comments section of the table is not mandatory for use of a substitute. In addition, the comments should not be considered comprehensive with respect to other legal obligations pertaining to the use of the substitute. However, EPA strongly encourages users of acceptable substitutes to apply all comments to their use of these substitutes. In many instances, the comments simply refer to standardized operating practices that have already been identified in existing industry and/or building-code standards. Thus, many of the comments, if adopted, would not require significant changes in existing operating practices for the affected industry.

A. Refrigeration and Air Conditioning

1. Acceptable Substitutes

(a) Furan (C4F8O). Furan is acceptable as a substitute for CFC-114 in retrofits of existing uranium isotope separation processing equipment. Furan, a perfluorocarbon (PFC), does not contribute to stratospheric ozone depletion. The environmental characteristics of concern for this compound are its extremely high global warming potential and long atmospheric lifetime. Long atmospheric lifetimes make the warming effects of PFCs essentially irreversible. As a result, PFCs are included in the Climate Change Action Plan, which broadly instructs EPA to use section 612 of the CAA, as well as voluntary programs, to control emissions.

Despite these concerns, EPA has listed several PFCs as acceptable replacements for CFC-114 in uranium isotope separation processing. PFCs have physical and thermodynamic properties that make them the only viable alternatives to CFC-114 in this end-use that have been identified as of this time. PFCs offer high dielectric resistance, noncorrosivity, thermal stability, materials compatibility, chemical inertness, low toxicity, and nonflammability.

In this end-use, Furan may offer some advantages over other PFCs currently listed as acceptable. The most significant advantage may be that its vapor pressure is lower which results in lower leak rates and a reduced likelihood that new leaks will be created in the system. Another distinction between Furan and other alternatives examined relates to the relatively low molecular weight of the compound. The low molecular weight relative to the material being processed makes it easy to separate Furan from the process stream.

EPA is listing Furan as acceptable in retrofit and existing uranium isotope separation system designs only. For new equipment designs in this end-use, EPA believes other alternatives may exist or may be developed to meet the needs of newly designed systems. Users of Furan should note that if other alternatives become available, EPA may determine to list Furan as unacceptable due to the availability of other suitable substitutes. If EPA took such action, EPA could also consider whether to grandfather existing uses. EPA's 1994 SNAP rulemaking specifies the criteria EPA would use in making a decision to grandfather existing uses (59 FR 13057; March 18, 1994).

EPA urges industry to continue to search for other long-term alternatives for this end-use that do not have high GWPs and long atmospheric lifetimes. In cases where users must use PFCs, they should make every effort to minimize emissions. Users are also strongly encouraged to recover, recycle, and/or destroy these fluids during servicing and after the end of the equipment's useful life.

B. Foam Blowing

1. Acceptable Substitutes

(a) Saturated Light Hydrocarbons C3-C6. Saturated Light Hydrocarbons C3-C6 are acceptable as a substitute for HCFC-141b in all foam end-uses, except as a HCFC replacement in spray foam applications. (Spray foam applications fall under the Rigid Polyurethane Spray and Commercial Refrigeration, and Sandwich Panels end-use.). Today's action does not affect previous decisions made by EPA to list specific hydrocarbon blowing agents as acceptable in spray foam. The acceptability of hydrocarbons as HCFC-141b replacements in spray foam applications will be determined on a product-by-product basis until standard industry practices/training become more established. C3-C6 saturated light hydrocarbons are already acceptable substitutes for CFC-11 in all foam end-uses, and for HCFC-141b in some foam end-uses (rigid polyurethane and polyisocyanurate laminated boardstock, rigid polyurethane appliance, and polyurethane integral skin). Today's action expands the acceptable applications for C3-C6 saturated light hydrocarbons as substitutes for HCFCs in the following applications/end-uses: rigid polyurethane commercial refrigeration and sandwich panels, rigid polyurethane slabstock and other foams, polystyrene extruded insulation boardstock and billet, phenolic insulation board and bunstock, and polyolefin. Hydrocarbon blowing agents have no ozone depletion potential, low global warming potentials, and are low in toxicity. However, these agents are flammable and should be handled with proper precautions.

The flammability of hydrocarbon blowing agents are of particular concern in spray foam applications where a controlled factory environment is not possible. The potential for explosion or fire highlights the need for safety training. While training can not provide an absolute guarantee of safety, EPA believes that a comprehensive training program, if implemented properly, can adequately control risks associated with use of potentially flammable hydrocarbon-blown spray foam systems.

In December 1999, EPA listed Exxsol Blowing Agents, a specific hydrocarbon pentane blend, as acceptable in all foam end-uses (64 FR 68039) including spray foam. Draft training materials for spray foam applications were provided to EPA and are available through the Air Docket (Docket A-91-42, Category IX-B, Background Documents for Notice 11). EPA may list other hydrocarbon blowing agents as acceptable for spray foam applications if companies wishing to distribute or use hydrocarbons in spray foam applications establish safety training programs. Interested parties should contact EPA.

III. Additional Information

Contact the Stratospheric Protection Hotline at (800) 296-1996, Monday-Friday, between the hours of 10:00 a.m. and 4:00 p.m. (EST). For more information on the Agency's process for administering the SNAP program or criteria for evaluation of substitutes, refer to the SNAP final rulemaking published in the Federal Register on March 18, 1994 (59 FR 13044). Notices and rulemakings under the SNAP program, as well as all EPA publications on protection of stratospheric ozone, are available from EPA's Ozone Depletion World Wide Web site at “http://www.epa.gov/ozone/title6/snap/” and from the Stratospheric Protection Hotline whose number is listed above.

List of Subjects in 40 CFR Part 82

Environmental protection, Administrative practice and procedure, Air pollution control, Reporting and recordkeeping requirements.

Dated: March 29, 2000.
Paul Stolpman,
Director, Office of Atmospheric Programs, Office of Air and Radiation.

Appendix A: Summary of Acceptable Decisions
End-use | Substitute | Decision | Comments
Refrigeration and Air Conditioning Sector
Uranium Isotope Separation Processing (Retrofit) | Furan for CFC-114 | Acceptable | EPA urges industry to continue to search for other long-term alternatives for this end-use that do not contain substances with such high GWPs and long atmospheric lifetimes. In cases where users must adopt PFCs, they should make every effort to minimize emissions. Users are also strongly encouraged to recover, recycle, and/or destroy these fluids during servicing and after the end of the equipment's useful life.
Foam Blowing
All foam end-uses, except as a HCFC-141b replacement in spray foam applications (see comments) | Saturated Light Hydrocarbons C3-C6 for HCFC-141b | Acceptable | Today's action does not affect previous decisions made by EPA to list specific hydrocarbon blowing agents as acceptable in spray foam. The acceptability of hydrocarbons as HCFC-141b replacements in spray foam applications will be determined on a product-by-product basis until standard industry practices/training become more established. EPA may list other hydrocarbon blowing agents as acceptable for spray foam applications if companies wishing to distribute or use hydrocarbons in spray foam applications establish safety training programs. Interested parties should contact EPA.

[FR Doc. 00-8958 Filed 4-10-00; 8:45 am]

BILLING CODE 6560-50-U